DEPARTMENT OF ENERGY

Federal Energy Regulatory Commission

[Docket No. CP04-34-000]

Columbia Gas Transmission Corporation; Notice of Site Visit

April 30, 2004.

On May 11, 2004, the staff of the Office of Energy Projects and representatives of Columbia Gas Transmission Corporation (Columbia) will conduct a site visit of the proposed Line 1278 Replacement Project in Pike, Northampton, and Monroe Counties, Pennsylvania.

All interested parties may attend. Those planning to attend must provide their own transportation. Interested parties can meet staff at 8 a.m. on May 11, 2004, in the parking lot of the Hampton Inn, 114 South 8th St., Stroudsburg, Pennsylvania.

For further information, please contact the Office of External Affairs toll free at 1-866-208-3372.

Magalie R. Salas,
Secretary.

[FR Doc. E4-1042 Filed 5-7-04; 8:45 am]

BILLING CODE 6717-01-P